NATIONAL CREDIT UNION ADMINISTRATION

Renewal of Agency Information Collection of a Previously Approved Collection; Request for Comments

AGENCY: National Credit Union Administration (NCUA).

ACTION: Notice of submission to the Office of Management and Budget.

SUMMARY: As required by the Paperwork Reduction Act of 1995, The National Credit Union Administration (NCUA) is submitting the following extensions of currently approved collections to the Office of Management and Budget (OMB) for renewal.

DATES: Written comments should be received on or before August 20, 2025 to be assured consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submission may be obtained by contacting Dacia Rogers at (703) 518-6547, emailing PRAComments@ncua.gov, or viewing the entire information collection request at www.reginfo.gov.

SUPPLEMENTARY INFORMATION:

OMB Number: 3133-0209.

Title: NCUA Template—Large Credit Union Data Collection.

Type of Review: Extension of a previously approved collection.

Abstract: The NCUA issued regulation under 12 CFR part 702, subpart C, “Capital Planning and Stress Testing” regarding capital planning and stress testing for federally insured credit unions with $10 billion or more in assets and supervised by Office of National Examinations and Supervision (covered credit unions). The rule authorizes covered credit unions to conduct stress tests in accordance with the NCUA's requirements. Section § 702.306 provides for the necessary requirements for those credit unions to conduct supervisory stress tests. The “NCUA Template—Large Credit Union Data Collection” was developed for the credit unions to provide NCUA with the specific data needed to evaluate their internal assessments of capital adequacy and to ensure their capital resources are sufficient.

Affected Public: Private Sector: Not-for-profit institutions.

Estimated Number of Respondents: 37.

Estimated Number of Responses per Respondent: 4.405405405.

Estimated Total Annual Responses: 163.

Estimated Hours per Response: 22.94479.

Estimated Total Annual Burden Hours: 3,740.

Reason for Change: Increase in the number of new credit unions expected to exceed the asset threshold over the next three years.

OMB Number: 3133-0207.

Title: Subordinated Debt, 12 CFR part 702, subpart D.

Type of Review: Extension of a previously approved collection.

Abstract: Subpart D of Part 702 addresses limits on loans to other credit unions; an expansion of the borrowing rule to clarify that federal credit unions (FCUs) can borrow from any source; revisions to the risk-based capital (RBC) rule, and the payout priorities in an involuntary liquidation rule to account for Subordinated Debt and Grandfathered Secondary Capital; and cohering changes to part 741 to account for the other changes proposed in this rule that apply to federally insured, state-chartered credit unions (FISCUs). The borrowing authority granted to FCUs by the FCU Act, along with FCUs' statutory authority to enter into contracts and exercise incidental powers necessary or required to enable the FCUs to effectively carry on their business, supports the legal analysis that FCUs are authorized to incur indebtedness through the issuance of debt securities of the type contemplated by this proposed rule. This rule permits LICUs, Complex Credit Unions, and New Credit Unions to issue Subordinated Debt Notes for purposes of regulatory capital treatment. It contains a series of requirements in respect of the Subordinated Debt and Subordinated Debt Note, disclosures and offering materials, repayment (including prepayment), and regulatory capital treatment.

Affected Public: Private Sector: Not-for-profit institutions.

Estimated Number of Respondents: 2,500.

Estimated Number of Responses per Respondent: 1.1564.

Estimated Total Annual Responses: 2,891.

Estimated Hours per Response: 1.817018.

Estimated Total Annual Burden Hours: 5,253.

Reason for Change: Estimated number of respondents decreased due to the number of credit unions with outstanding borrowing.

Request for Comments: Comments submitted in response to this notice will be summarized and included in the request for Office of Management and Budget approval. All comments will become a matter of public record. The public is invited to submit comments concerning: (a) whether the collection of information is necessary for the proper performance of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By the National Credit Union Administration Board.
Melane Conyers-Ausbrooks,
Secretary of the Board.

[FR Doc. 2025-13627 Filed 7-18-25; 8:45 am]

BILLING CODE 7535-01-P